FEDERAL COMMUNICATIONS COMMISSION

47 CFR Part 52

[WC Docket Nos. 13-97, 07-243, 20-67; FCC 25-86; FR ID 330316]

Numbering Policies for Modern Communications

AGENCY: Federal Communications Commission.

ACTION: Proposed rule.

SUMMARY: In this document, the Federal Communications Commission (Commission) proposes rules regarding direct access to numbers by providers of interconnected Voice over internet Protocol (VoIP) services. The Commission takes this action in furtherance of Congress' directive in the Pallone-Thune Telephone Robocall Abuse Criminal Enforcement and Deterrence (TRACED) Act to examine ways to reduce access to telephone numbers by potential perpetrators of illegal robocalls. These proposals aim to safeguard U.S. numbering resources and consumers, protect national security interests, promote public safety, and ensure compliance with other important Commission rules.

DATES: Comments are due on or before March 16, 2026. Reply Comments are due on or before April 13, 2026. Written comments on the Paperwork Reduction Act proposed information collection requirements must be submitted by the public and other interest parties on or before April 13, 2026.

ADDRESSES: You may submit comments, identified by WC Docket Nos. 13-97, 07-243, 20-67, by any of the following methods:

• Electronic Filers. Comments may be filed electronically using the Commission's website by accessing the Electronic Comment Filing System (ECFS): https://www.fcc.gov/ecfs.

• Paper Filers. Parties who choose to file by paper must file an original and one copy of each filing.

○ Filings can be sent by hand or messenger delivery, by commercial courier, or by the U.S. Postal Service. All filings must be addressed to the Commission's Secretary, Office of the Secretary, Federal Communications Commission.

○ Hand-delivered or messenger-delivered paper filings for the Commission's Secretary are accepted between 8:00 a.m. and 4:00 p.m. by the Commission's mailing contractor at 9050 Junction Drive, Annapolis Junction, MD 20701. All hand deliveries must be held together with rubber bans or fasteners. Any envelopes and boxes must be disposed of before entering the building.

○ Commercial courier deliveries (any not send by the U.S. Postal Service) must be sent to 9050 Junction Drive, Annapolis Junction, MD 20701.

○ Filings sent by U.S. Postal Service First-Class Mail, Priority Mail, and Priority Mail Express must be sent to 45 L Street NE, Washington, DC 20554.

• People with Disabilities. To request materials in accessible formats for people with disabilities (braille, large print, electronic files, audio format), send an email to fcc504@fcc.gov or call the Consumer and Governmental Affairs Bureau at (202) 418-0530.

• Availability of Documents. Comments, reply comments, and ex parte submissions will be publicly available online via ECFS. Documents will be available electronically in ASCII, Microsoft Word, and/or Adobe Acrobat.

For additional information on submitting comments and the rulemaking process, see the SUPPLEMENTARY INFORMATION section of this document. Send a copy of your comment on the proposed information collection to PRA@fcc.gov or contact Nicole Ongele at Nicole.Ongele@fcc.gov.

FOR FURTHER INFORMATION CONTACT: Jordan Reth, Attorney Advisor, Competition Policy Division, Wireline Competition Bureau at Jordan.Reth@fcc.gov or (202) 418-1418. For additional information concerning the Paperwork Reduction Act information collection requirements contained in this document, send an email to PRA@fcc.gov or contact Nicole Ongele at Nicole.Ongele@fcc.gov.

SUPPLEMENTARY INFORMATION: This is a summary of the Commission's Third Further Notice of Proposed Rulemaking (Third FNPRM) in WC Docket Nos. 13-97, 07-243, 20-67, adopted on December 18, 2025, and released on December 19, 2025. The complete text of this document is available for download at https://docs.fcc.gov/public/attachments/FCC-25-86A1.pdf. To request materials in accessible formats for people with disabilities (e.g., Braille, large print, electronic files, audio format, etc.), send an email to fcc504@fcc.gov or call the Consumer and Governmental Affairs Bureau at (202) 418-0530.

Regulatory Flexibility Act. The Regulatory Flexibility Act of 1980, as amended (RFA) requires that an agency prepare a regulatory flexibility analysis for notice and comment rulemakings, unless the agency certifies that “the rule will not, if promulgated, have a significant economic impact on a substantial number of small entities.” Accordingly, the Commission has prepared an Initial Regulatory Flexibility Analysis (IRFA) concerning the possible impact of the proposed rules contained in the Third FNPRM on small entities. The IRFA is set forth in Appendix C, https://www.fcc.gov/document/wcb-updates-numbering-requirements-providers.

Paperwork Reduction Act. This Third FNPRM may contain proposed new and revised information collection requirements. The Commission, as part of its continuing effort to reduce paperwork burdens, invites the general public and the Office of Management and Budget (OMB) to comment on the information collection requirements described in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act. The Providing Accountability Through Transparency Act, Public Law 118-9, requires each agency, in providing notice of a rulemaking, to post online a brief plain-language summary of the proposed rule. The required summary of this document will be available at https://www.fcc.gov/proposed-rulemakings.

Ex Parte Rules. The proceeding this Third FNPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

In this Third FNPRM, we refresh the record on reclaiming numbering resources that were obtained directly from the Numbering Administrators by interconnected VoIP providers that subsequently had their authorizations revoked or terminated. We also seek comment on whether the Commission should restrict VoIP numbering authorizations or reevaluate direct access authorizations for entities that appear on the Commission's Covered List or have “covered” equipment in their networks, pursuant to 47 CFR 1.50002 and the List of Equipment and Services Covered by section 2 of the Secure and Trusted Communications Networks Act of 2019, Public Law 116-124. Finally, we seek comment on other restrictions or protections we should consider for VoIP numbering authorizations or numbering resources.

Third Further Notice of Proposed Rulemaking

By this Third FNPRM, we seek comment on ways we can continue to leverage VoIP numbering authorizations and access to numbers in the fight against illegal robocalling and unacceptable national security threats.

First, we seek to refresh the record on the feasibility and impacts of reclaiming numbering resources obtained directly from the Numbering Administrators by interconnected VoIP providers when the Commission has revoked or terminated their VoIP numbering authorization or when the provider is no longer providing services due to bankruptcy or other critical circumstances. What are the costs and benefits of such action? Would the disruptions to end-users outweigh the potential benefits? What are the possible ways to mitigate impacts on end-users and consumers? We also seek comment on the potential process the Commission might use to reclaim numbers and on ways to operationally facilitate numbering resource reclamation, particularly for numbers assigned to end-users. Would porting numbers to a designated alternative provider and establishing a numbering partner to maintain service to existing customers be a viable solution and what would that entail? “Numbering partner” refers to the carrier partner from where an interconnected VoIP provider obtains numbering resources. Are there alternatives to number reclamation that would be less disruptive but also provide adequate safeguards to numbering resources as well as meaningful enforcement mechanisms? We seek comment on related conclusions in the NANC's 2024 report, which analyzed similar questions related to number reclamation pursuant to the Second Report and Order.

We also seek comment on whether the Commission should restrict VoIP numbering authorizations or reevaluate existing authorizations for certain entities that may threaten national security, for example, entities identified on the Commission's Covered List (generally, entities whose equipment and/or services have been deemed to pose an unacceptable risk to the national security of the United States or to the security and safety of United States persons, as well as those entities' affiliates and subsidiaries). As the Commission has previously explained, “[e]ntities `identified on the Covered List' generally includes entities named on the Covered List and such entities' affiliates and subsidiaries.” Another example would be entities who have had their international and/or domestic section 214 authorizations revoked on national security or law enforcement grounds. Should such entities be denied VoIP numbering authorizations? If we were to adopt these further restrictions, should we limit the prohibition to entities whose services, rather than equipment, is identified on the Covered List, or whose domestic or international section 214 authority (or that of its affiliate or subsidiary) has been denied or revoked on national security or law enforcement grounds? As we recently reiterated, “communications equipment and services on the FCC's Covered List have been determined to pose unacceptable risks to the national security of the United States and its citizens.” What are the potential benefits of such a restriction for both reducing illegal robocalls and strengthening the security of the nation's networks? Are there any harms or unintended impacts that would outweigh the benefits? What are the consequences of this restriction on providers and consumers?

Lastly, we also seek comment on whether the Commission should restrict a VoIP numbering authorization or reevaluate an existing authorization should it discover “covered” equipment in the interconnected VoIP provider's network. What are the potential costs and benefits of such a proposal? Should there be a time period considered for reporting ”covered” equipment in a network before any potential restrictions on VoIP numbering authorizations take effect? Should the Commission adopt an additional certification requirement regarding the use of ”covered” equipment or services by applicants and existing authorization holders? Should existing authorization holders (that is, those granted prior to the effective date of the contemplated certification requirement) be required to make these certifications? Should the Commission consider prohibiting providers with a VoIP numbering authorization from providing service to entities with “covered” equipment in their networks in order to avoid entities with “covered” equipment gaining indirect access to numbering resources through resale or other arrangements? Are there circumstances or situations that should be taken into consideration? Would such a proposal create any unintended consequences? Are there any reporting and transparency impacts that might outweigh our proposal? Would this have impacts that are not technology-neutral or disproportionately impact interconnected VoIP providers and/or small providers? Would there be any unintended consequences for technology transitions, implementation of STIR/SHAKEN Caller ID authentications, or other Commission priorities? Finally, are there other proposals that we should consider regarding national security protections and direct access to numbering resources?

Ordering Clauses

Accordingly, it is ordered that pursuant to sections 1, 3, 4, 201-205, 251, and 303(r) of the Communications Act of 1934, as amended, 47 U.S.C. 151, 153, 154, 201-205, 251, 303(r), and section 6(a) of the TRACED Act, Public Law 116-105, 6(a)(1)-(2), 133 Stat. 3274, 3277 (2019), 47 U.S.C. 227b-1, the Third FNPRM hereby is adopted.

It is further ordered that the Commission's Office of the Secretary, SHALL SEND a copy of this Third FNPRM, including the Initial Regulatory Flexibility Analyses, to the Chief Counsel for the Small Business Administration (SBA) Office of Advocacy.

Initial Regulatory Flexibility Analysis

As required by the Regulatory Flexibility Act of 1980, as amended (RFA), the Federal Communications Commission (Commission) has prepared this Initial Regulatory Flexibility Analysis (IRFA) of the policies and rules proposed in the Third FNPRM assessing the possible significant economic impact on a substantial number of small entities. The Commission requests written public comments on this IRFA. Comments must be identified as responses to the IRFA and must be filed by the deadlines for comments specified on the first page of the Third FNPRM. The Commission will send a copy of the Third FNPRM, including this IRFA, to the Chief Counsel for the Small Business Administration (SBA) Office of Advocacy. In addition, the Third FNPRM and IRFA (or summaries thereof) will be published in the Federal Register.

Need for, and Objectives of, the Proposed Rules

In the Third FNPRM, the Commission continues to strengthen our direct access rules to protect consumers and our nation's communication networks from bad actors that would misuse our finite numbering resources. As bad actors continue to seek new and creative methods for exploiting consumers and causing harm, we must think outside of the box to bolster our safeguards against those who engage in illegal robocalling, fraud, and abuse. We seek comment on ways we can continue to leverage the VoIP numbering authorization and access to numbers in the fight against illegal robocalling and unacceptable national security threats. Specifically, we first refresh the record as to whether the Commission should reclaim numbering resources obtained directly from the Numbering Administrators by interconnected VoIP providers whose VoIP numbering authorizations were subsequently revoked or terminated. We also seek comment on prohibiting entities identified on the Covered List (i.e. named entities and their affiliates and subsidiaries) from obtaining a VoIP numbering authorization. Additionally, we seek comment on whether we should extend this prohibition to third party entities that supply, receive services from, carry traffic for, or interconnect with entities identified on the Covered List. Moreover, we seek comment on whether we should limit the prohibition to entities identified on the Covered List whose international section 214 authority (or that of its affiliate or subsidiary) was denied or revoked on national security grounds. The Commission recently reiterated, “communications equipment and services on the FCC's Covered List have been determined to pose unacceptable risks to the national security of the United States and its citizens.” We also request comment on the potential benefits of such a restriction for both reducing illegal robocalls and security of the nation's networks. Additionally, we seek comment on the harms or unintended impacts of such a restriction, and whether they would outweigh the benefits. Further, we seek comment on the consequences of such a restriction on providers and consumers.

The Commission seeks comment on whether to restrict a VoIP numbering authorization or reevaluate an existing authorization if “covered” equipment is discovered in the interconnected VoIP provider's network. We request comment on the potential costs and benefits and whether there should be a time period for reporting Covered List equipment in a network before any potential restrictions on VoIP numbering authorizations take effect. Additionally, the Commission seeks comment on adopting an additional certification requirement regarding the use of Covered List equipment or services by applicants for the VoIP numbering authorization and if there are circumstances or situations that should be taken into consideration. Moreover, we seek comment on any unintended consequences, reporting and transparency impacts, and impacts that are not technology-neutral or disproportionate for interconnected VoIP providers and/or small providers. Further, we seek comment on any unintended consequences for technology transitions, implementation of STIR/SHAKEN Caller ID authentications, or other Commission priorities. Finally, we request comment on any other proposals that we should consider regarding national security protections and direct access to numbering resources.

Legal Basis

The proposed action is authorized pursuant to sections 1, 3, 4, 201-205, 251, and 303(r) of the Communications Act of 1934, as amended, 47 U.S.C. 151, 153, 154, 201-205, 251, 303(r), and section 6(a) of the TRACED Act, Public Law 116-105, section 6(a)(1)-(2), 133 Stat. 3274, 3277 (2019), 47 U.S.C. 227b-1.

Description and Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act (SBA). A “small business concern” is one which: (1) is independently owned and operated; (2) is not dominant in its field of operation; and (3) satisfies any additional criteria established by the SBA. The SBA establishes small business size standards that agencies are required to use when promulgating regulations relating to small businesses; agencies may establish alternative size standards for use in such programs, but must consult and obtain approval from SBA before doing so.

Our actions, over time, may affect small entities that are not easily categorized at present. We therefore describe three broad groups of small entities that could be directly affected by our actions. In general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

The rules proposed in the Third FNPRM will apply to small entities in the industries identified in the chart below by their six-digit North American Industry Classification System (NAICS) codes and corresponding SBA size standard. Based on currently available U.S. Census data regarding the estimated number of small firms in each identified industry, we conclude that the proposed rules will impact a substantial number of small entities. Where available, we also provide additional information regarding the number of potentially affected entities in the industries identified below.

Table 1—2022 U.S. Census Bureau Data by NAICS Code
Regulated industry (footnotes specify potentially affected entities within a regulated industry where applicable) | NAICS code | SBA size standard | Total firms | Total small firms | % small firms
Wired Telecommunications Carriers | 517111 | 1,500 employees | 3,403 | 3,027 | 88.95
Wireless Telecommunications Carriers (except Satellite) | 517112 | 1,500 employees | 1,184 | 1,081 | 91.30
Telecommunications Resellers | 517121 | 1,500 employees | 955 | 847 | 88.69
Satellite Telecommunications | 517410 | $44 million | 332 | 195 | 58.73
All Other Telecommunications | 517810 | $40 million | 1,673 | 1,007 | 60.19

Table 2—Telecommunications Service Provider Data
2024 Universal service monitoring report telecommunications service provider data (data as of December 2023): Affected entity | SBA size standard (1,500 employees): Total # FCC Form 499A filers | SBA size standard (1,500 employees): Small firms | SBA size standard (1,500 employees): % Small entities
Cable/Coax CLEC | 67 | 62 | 92.54
Competitive Local Exchange Carriers (CLECs) | 3,729 | 3,576 | 95.90
Incumbent Local Exchange Carriers (Incumbent LECs) | 1,175 | 917 | 78.04
Interexchange Carriers (IXCs) | 113 | 95 | 84.07
Local Exchange Carriers (LECs) | 4,904 | 4,493 | 91.62
Local Resellers | 222 | 217 | 97.75
Other Toll Carriers | 74 | 71 | 95.95
Prepaid Card Providers | 47 | 47 | 100.00
Toll Resellers | 411 | 398 | 96.84
Wired Telecommunications Carriers | 4,682 | 4,276 | 91.33
Wireless Telecommunications Carriers (except Satellite) | 585 | 498 | 85.13

Description of Economic Impact and Projected Reporting, Recordkeeping, and Other Compliance Requirements for Small Entities

The RFA directs agencies to describe the economic impact of proposed rules on small entities, as well as projected reporting, recordkeeping and other compliance requirements, including an estimate of the classes of small entities which will be subject to the requirements and the type of professional skills necessary for preparation of the report or record.

In the Third FNPRM, the Commission seeks comment on proposals that, if adopted, will affect all interconnected VoIP providers seeking a VoIP numbering authorization with the Commission, including those that may be small entities. Specifically, in the Third FNPRM, we seek comment on proposals to impose additional certifications requirements with respect to Covered List entities or covered equipment in networks for applicants and existing authorization holders. As detailed in section A, these include prohibiting entities identified on the Covered List from obtaining a VoIP numbering authorization, and whether we should extend this prohibition to third party entities that supply, receive services from, carry traffic for, or interconnect with entities identified on the Covered List. These proposals may create new or additional reporting or recordkeeping and/or other compliance obligations on small entities, if adopted. We anticipate the information we receive in comments including, where requested, cost and benefit analyses, will help the Commission further identify and evaluate relevant compliance matters for small entities, including compliance costs such as whether small entities will have to hire professionals, and other burdens that may result from the inquiries we make in the Third FNPRM.

Discussion of Significant Alternatives Considered That Minimize the Significant Economic Impact on Small Entities

The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

In the Third FNPRM, the Commission continues to strengthen our direct access rules to protect consumers and our nation's communication networks from bad actors that would misuse our finite numbering resources, including for illegal robocalling or unacceptable national security threats. While doing so, the Commission seeks comment on a number of proposals related to the VoIP numbering authorization and prohibiting direct access to numbering resources for entities on the Covered List or those that have covered equipment in their interconnected VoIP service networks. These include alternatives to revoking VoIP authorization that may mitigate disruption to end-users and consumers, including porting numbers to a designated alternative provider and establishing a numbering partner to maintain service to existing customers.

In evaluating the proposals in the Third FNPRM, the Commission will fully consider the economic impact on small entities as it evaluates the comments filed, including comments related to costs and benefits. Alternative proposals and approaches from commenters will further develop the record and could help the Commission further minimize the economic impact on small entities. The Commission's evaluation of the comments filed in this proceeding will shape the final conclusions it reaches, the final alternatives it considers, and the actions it ultimately takes to minimize any significant economic impact that may occur on small entities from the final rules.

Federal Rules That May Duplicate, Overlap, or Conflict With the Proposed Rules

13. None.

Federal Communications Commission.
Marlene H. Dortch,
Secretary.

[FR Doc. 2026-02858 Filed 2-11-26; 8:45 am]

BILLING CODE 6712-01-P